DEPARTMENT OF TRANSPORTATION

Federal Aviation Administration

14 CFR Part 71

[Airspace Docket No. 00-ANM-14]

Establishment of Class E Airspace, Prineville, OR

AGENCY: Federal Aviation Administration (FAA), DOT.

ACTION: Final rule.

SUMMARY: This action establishes the Prineville, OR, Class E airspace to accommodate airspace required for the establishment of a new Standard Instrument Approach Procedure (SIAP) to the Prineville Airport, Prineville, OR.

EFFECTIVE DATE: February 21, 2001.

FOR FURTHER INFORMATION CONTACT: Brian Durham, ANM-520.7, Federal Aviation Administration, Docket No. 00-ANM-14, 1601 Lind Avenue SW, Renton, Washington 98055-4056: telephone number: (425) 227-2527.

SUPPLEMENTARY INFORMATION:

History

On October 16, 2000, the FAA proposed to amend Title 14 Code of Federal Regulations, part 71 (14 CFR part 71) by establishing Class E airspace at Prineville, OR, in order to accommodate a new Area Navigation (RNAV) SIAP to Runway 10, RNAV RWY 28, and Non-Directional Beacon (NDB) RWY 10 SIAP at Prineville Airport, Prineville, OR (65 FR 200). This amendment provides Class E5 airspace at Prineville, OR, to meet current criteria standards associated with the SIAPs. Interested parties were invited to participate in the rulemaking proceeding by submitting written comments on the proposal. No comments were received.

The Rule

This amendment to Title 14 Code of Federal Regulations, part 71 (14 CFR part 71) establishes Class E airspace at Prineville, OR, in order to accommodate a new SIAPs to the Prineville Airport, Prineville, OR. This amendment establishes Class E5 airspace at Prineville, OR, to meet current criteria standards associated with the SIAPs. The FAA establishes Class E airspace where necessary to contain aircraft transitioning between the terminal and en route environments. This rule is designed to provide for the safe and efficient use of the navigable airspace and to promote safe flight operations under Instrument Flight Rules (IFR) at the Prineville Airport and between the terminal and en route transition stages.

The area will be depicted on aeronautical charts for pilot reference. The coordinates for this airspace docket are based on North American Datum 83. Class E airspace areas extending upward from 700 feet or more above the surface of the earth, are published in Paragraph 6005, of FAA Order 7400.9H dated September 1, 2000, and effective September 16, 2000, which is incorporated by reference in 14 CFR 71.1. The Class E airspace designation listed in this document will be published subsequently in the Order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 6005 Class E airspace areas extending upward from 700 feet or more above the surface of the earth.

* * * * *

ANM OR E5 Prineville, OR [New]

Prineville Airport, OR

(lat. 44°17′13″N., long. 120°54′14″W.)

That airspace extending upward from 700 feet above the surface within a 6.9-mile radius of the airport, and 3.5 miles each side of the 283° bearing from the airport extending to 12.2 miles, and 3 miles each side of the 121° bearing from the airport extending to 7.2 miles; that airspace extending upward from 1,200 feet above the surface within a 9.2-miles radius of the airport clockwise from the 320° bearing to the 190° bearing, then extending to 27.4 miles from the airport in an arc clockwise to the 230° bearing, then extending to 37.5 miles from the airport in an arc clockwise to the 320° bearing, then extending 6.8 miles each side of the 121° bearing from the airport to 34.3 miles; excluding that airspace within Federal Airways; the Redmond, OR Class D and E airspace.

* * * * *

Issued in Seattle, Washington, on January 8, 2001.
Dan A. Boyle,
Assistant Manager, Air Traffic Division, Northwest Mountain Region.

[FR Doc. 01-1672 Filed 1-19-01; 8:45 am]

BILLING CODE 4910-13-M